ENVIRONMENTAL PROTECTION AGENCY

40 CFR Part 81

[CA087-DESIG; FRL-7568-3]

Clean Air Act Area Designations; California

Correction

In rule document 03-25136 beginning on page 57820 in the issue of Tuesday, October 7, 2003, make the following corrections:

§ 81.305 [Corrected]

1. On page 57822, in § 81.305, in the table titled “CALIFORNIA—CARBON MONOXIDE”, under the column heading “Designated area”, in the second line, “Basin Area Attainment” should read, “Basin Area”.

2. On page 57823, in the same section, in the table, under the column heading “Designated area”, in the second line, “South and Coast” should read, “South Coast”.

[FR Doc. C3-25136 Filed 10-17-03; 8:45 am]

BILLING CODE 1505-01-D

DEPARTMENT OF THE TREASURY

Office of Thrift Supervision

12 CFR Parts 506, 559, 562, and 563

[No. 2003-50]

RIN 1550-AB55

Savings Associations—Transactions With Affiliates

Correction

In rule document 03-25217 beginning on page 57790 in the issue of Tuesday, October 7, 2003, make the following corrections:

1. On page 57790, in the document heading, correct the CFR parts affected to read as set forth above.

2. On page 57796, under the heading “List of Subjects,” add the following CFR part in chronological order:

“12 CFR Part 506

Reporting and recordkeeping requirements.”

3. On the same page, in the words of issuance paragraph, in the fourth line, “parts 559, 562” should read, “parts 506, 559, 562”.

[FR Doc. C3-25217 Filed 10-17-03; 8:45 am]

BILLING CODE 1505-01-D